DEPARTMENT OF COMMERCE

International Trade Administration

[C-570-074]

Common Alloy Aluminum Sheet From the People's Republic of China: Preliminary Results of Countervailing Duty Administrative Review; 2021

AGENCY: Enforcement and Compliance, International Trade Administration, Department of Commerce.

SUMMARY: The U.S. Department of Commerce (Commerce) preliminarily determines that countervailable subsidies were provided to producers and exporters of common alloy aluminum sheet (CAAS) from the People's Republic of China (China) during the period of review (POR), January 1, 2021, through December 31, 2021. We invite interested parties to comment on these preliminary results.

DATES: Applicable March 7, 2023.

FOR FURTHER INFORMATION CONTACT: James R. Hepburn or Scarlet K. Jaldin, AD/CVD Operations, Office VI, Enforcement and Compliance, International Trade Administration, U.S. Department of Commerce, 1401 Constitution Avenue NW, Washington, DC 20230; telephone: (202) 482-1882 or (202) 482-4275, respectively.

SUPPLEMENTARY INFORMATION:

Background

On April 12, 2022, Commerce published in the Federal Register a notice of initiation of an administrative review of the countervailing duty order on CAAS from China with respect to three companies.¹ On September 30, 2022, Commerce extended the deadline for completion of these preliminary results until no later than February 28, 2023.²

¹ See Initiation of Antidumping and Countervailing Duty Administrative Reviews, 87 FR 21619, 21635 (April 12, 2022); see also Common Alloy Aluminum Sheet from the People's Republic of China: Countervailing Duty Order, 84 FR 2157 (February 6, 2019) (Order).

² See Memorandum, “Extension of the Deadline for Preliminary Results of Countervailing Duty Administrative Review; 2021,” dated September 30, 2022.

For a complete description of the events that followed the initiation of this review, see the Preliminary Decision Memorandum.³ A list of topics discussed in the Preliminary Decision Memorandum is included as the appendix to this notice. The Preliminary Decision Memorandum is a public document and is on file electronically via Enforcement and Compliance's Antidumping and Countervailing Duty Centralized Electronic System (ACCESS). ACCESS is available to registered users at https://access.trade.gov. In addition, a complete version of the Preliminary Decision Memorandum can be accessed directly at https://access.trade/gov/public/FRNoticesListLayout.aspx.

³ See Memorandum, “Decision Memorandum for the Preliminary Results of the Countervailing Duty Administrative Review: Common Alloy Aluminum Sheet from the People's Republic of China; 2021,” dated concurrently with, and hereby adopted by, this notice (Preliminary Decision Memorandum).

Scope of the Order

The product covered by the Order is CAAS from China. For a complete description of the scope of this Order, see the Preliminary Decision Memorandum.

Methodology

Commerce is conducting this administrative review in accordance with section 751(a)(1)(A) of the Tariff Act of 1930, as amended (the Act). For each of the subsidy programs preliminarily found to be countervailable, we preliminarily determine that there is a subsidy, i.e., a financial contribution from an authority that gives rise to a benefit to the recipient and that the subsidy is specific.⁴ For a full description of the methodology underlying our preliminary results, including our reliance, in part, on facts available with adverse inferences pursuant to sections 776(a) and (b) of the Act, see the Preliminary Decision Memorandum.

⁴ See sections 771(5)(B) and (D) of the Act regarding financial contribution; section 771(5)(E) of the Act regarding benefit; and section 771(5A) of the Act regarding specificity.

In making these findings, Commerce relied, in part, on facts available and, because the Government of China (GOC) did not respond to the Initial Questionnaire,⁵ Commerce finds that the GOC did not provide necessary information, as requested. On that basis, Commerce determines that the GOC did not act to the best of its ability to respond to Commerce's request for information and, therefore, in reaching these preliminary results of review, we drew an adverse inference where appropriate in selecting from among the facts otherwise available. For further information, see the “Use of Facts Otherwise Available and Application of Adverse Inferences” section in the Preliminary Decision Memorandum.

⁵ See Commerce's Letter, “Countervailing Duty Questionnaire,” dated July 13, 2022 (Initial Questionnaire).

Preliminary Results of Review

In accordance with 19 CFR 351.221(b)(4)(i), Commerce calculated a countervailable subsidy rate for the mandatory respondents that are identified below. Because there are no other producers or exporters subject to this review and not selected for individual examination (i.e., non-selected companies), Commerce does not need to establish a rate for such companies in this review.

Commerce preliminarily determines the net countervailable subsidy rates for the period January 1, 2021, through December 31, 2021, are as follows:

⁶ We initiated this review on Jiangsu Alcha Aluminium Co., Ltd. However, it was reported that “Jiangsu Alcha Aluminium Co., Ltd.,” also known as “Jiangsu Alcha Aluminum Co., Ltd.,” legally changed its name to “Jiangsu Alcha Aluminium Group Co., Ltd.” on May 21, 2019. It was also reported that both “Jiangsu Alcha Aluminium Group Co., Ltd.” and “Jiangsu Alcha Aluminum Group Co., Ltd.” refer to the same entity. Accordingly, we intend to treat “Jiangsu Alcha Aluminium Group Co., Ltd.” and “Jiangsu Alcha Aluminum Group Co., Ltd.” (formally known as “Jiangsu Alcha Aluminium Co., Ltd.” or “Jiangsu Alcha Aluminum Co., Ltd.”) as one entity (Jiangsu Alcha). For further discussion, see the Preliminary Decision Memorandum at section “II. Background.”

⁷ It was reported that although the legal name for one of Jiangsu Alcha's subsidiaries is “Baotou Alcha Aluminium Co., Ltd.,” other names (i.e., “Baotou Alcha Aluminum Co., Ltd.,” “Baotou Alcha North Aluminum Co., Ltd.,” and “Baotou Changlv Northern Aluminium Industry Co., Ltd.”) also refer to the same entity due to different English translations of its Chinese-language name. Accordingly, we intend to treat “Baotou Alcha Aluminium Co., Ltd.,” “Baotou Alcha Aluminum Co., Ltd.,” “Baotou Alcha North Aluminum Co., Ltd.,” and “Baotou Changlv Northern Aluminium Industry Co., Ltd.” as one entity (Baotou Alcha). For further discussion, see the Preliminary Decision Memorandum at section “II. Background.”

⁸ We preliminarily find that Baotou and Jiangsu Alcha New Energy Materials Co., Ltd. are crossed-owned with Jiangsu Alcha. In addition, Alcha International is wholly owned by Jiangsu Alcha. For further discussion, See Preliminary Decision Memorandum at section “B. Attribution of Subsidies” under “V. Subsidies Valuation.”

Company | Subsidy rate (percent ad valorem)
Alcha International Holdings Limited; Jiangsu Alcha Aluminium Group Co., Ltd., and Jiangsu Alcha Aluminum Group Co., Ltd. (both formally known as Jiangsu Alcha Aluminium Co., Ltd. or Jiangsu Alcha Aluminum Co., Ltd.),⁶ Baotou Alcha Aluminium Co., Ltd., Baotou Alcha Aluminum Co., Ltd., Baotou Alcha North Aluminum Co., Ltd., and Baotou Changlv Northern Aluminium Industry Co., Ltd.; ⁷ and Jiangsu Alcha New Energy Materials Co., Ltd.⁸ | 10.88
Yinbang Clad Material Co., Ltd. | 11.97

Assessment Rates

In accordance with 19 CFR 351.221(b)(4)(i), we preliminarily assigned subsidy rates in the amounts for the producers/exporters shown above. Upon completion of the administrative review, consistent with section 751(a)(1) of the Act and 19 CFR 351.212(b)(2), Commerce shall determine, and CBP shall assess, countervailing duties on all appropriate entries covered by this review. With regard to Jiangsu Alcha, we intend to instruct CBP to assess countervailing duties on all appropriate entries covered by this review under both its old and new names (i.e., “Jiangsu Alcha Aluminium Group Co., Ltd.,” “Jiangsu Alcha Aluminum Group Co., Ltd.,” “Jiangsu Alcha Aluminium Co., Ltd.,” and “Jiangsu Alcha Aluminum Co., Ltd.” Concerning Baotou Alcha, we intend to instruct CBP to assess countervailing duties on all appropriate entries covered by this review for all of its names identified in this notice. Commerce intends to issue assessment instructions to CBP no earlier than 35 days after the date of publication of the final results of this review in the Federal Register.

If a timely summons is filed at the U.S. Court of International Trade, the assessment instructions will direct CBP not to liquidate relevant entries until the time for parties to file a request for a statutory injunction has expired (i.e., within 90 days of publication).

Cash Deposit Rates

Pursuant to section 751(a)(1) of the Act, Commerce intends, upon publication of the final results, to instruct CBP to collect cash deposits of estimated countervailing duties in the amounts indicated for the producers/exporters listed above on shipments of subject merchandise entered or withdrawn from warehouse, for consumption on or after the date of publication of the final results of this review. With regard to Jiangsu Alcha, we intend to instruct CBP to collect cash deposits of estimated countervailing duties under its new names (i.e., “Jiangsu Alcha Aluminium Group Co., Ltd.,” “Jiangsu Alcha Aluminum Group Co., Ltd.”). Concerning Baotou Alcha, we intend to instruct CBP to collect cash deposits of estimated countervailing duties under all of its names identified in this notice. If the rate calculated in the final results is zero or de minimis, no cash deposit will be required on shipments of the subject merchandise entered or withdrawn from warehouse, for consumption on or after the date of publication of final results of this review. These cash deposit requirements, when imposed, shall remain in effect until further notice.

Disclosure and Public Comment

Commerce will disclose to interested parties the calculations performed for these preliminary results within five days of the date of publication of this notice.⁹ Interested parties may submit case briefs no later than 30 days of publication of the preliminary results of review.¹⁰ Rebuttals to case briefs may be filed no later than seven days after the case briefs.¹¹ An electronically-filed document must be received successfully in its entirety by ACCESS by 5:00 p.m. Eastern Time on the established deadline. Note that Commerce has temporarily modified certain of its requirements for serving documents containing business proprietary information, until further notice.¹² Pursuant to 19 CFR 351.309(c)(2) and (d)(2), parties who submit case or rebuttal briefs in this review are encouraged to submit with each argument: (1) a statement of the issue; (2) a brief summary of the argument; and (3) a table of authorities.¹³

⁹ See 19 CFR 35 l.224(b).

¹⁰ See 19 CFR 35 l.309(c).

¹¹ See 19 CFR 35 l.309(d).

¹² See also Temporary Rule Modifying AD/CVD Service Requirements Due to COVID-19; Extension of Effective Period, 85 FR 17006 (May 18, 2020) ; and Temporary Rule Modifying AD/CVD Service Requirements Due to COVID-19; Extension of Effective Period, 85 FR 41363 (July 10, 2020).

¹³ See 19 CFR 351.309(c)(1)(ii) and 351.309(d)(1).

Pursuant to 19 CFR 351.310(c), interested parties who wish to request a hearing, limited to issues raised in the case and rebuttal briefs, must submit a written request to the Assistant Secretary for Enforcement and Compliance within 30 days of the publication date of this notice.¹⁴ Requests should contain: (1) the party's name, address, and telephone number; (2) the number of participants and whether an participant is a foreign national; and (3) a list of the issues to be discussed. If a request for a hearing is made, Commerce intends to hold the hearing at a time and date to be determined. Parties should confirm by telephone the date, time, and location of the hearing two days before the scheduled date.

¹⁴ See 19 CFR 351.310(c).

Unless the deadline is extended, we intend to issue the final results of this administrative review, which will include our analysis of the issues raised in the case briefs, within 120 days after the date of publication of these preliminary results, pursuant to section 751(a)(3)(A) of the Act and 19 CFR 351.213(h)(1).

Notification to Interested Parties

These preliminary results are issued and published pursuant to sections 751(a)(l) and 777(i)(l) of the Act, and 19 CFR 351.221(b)(4).

Dated: February 28, 2023.
Abdelali Elouaradia,
Deputy Assistant Secretary for Enforcement and Compliance.

Appendix

List of Topics Discussed in the Preliminary Decision Memorandum

I. Summary

II. Background

III. Scope of the Order

IV. Diversification of China's Economy

V. Subsidies Valuation

VI. Interest Rate Benchmarks, Discount Rates, and Benchmarks for Measuring Adequacy of Remuneration

VII. Use of Facts Otherwise Available and Application of Adverse Inferences

VIII. Analysis of Programs

IX. Recommendation

[FR Doc. 2023-04569 Filed 3-6-23; 8:45 am]

BILLING CODE 3510-DS-P